DEPARTMENT OF HEALTH AND HUMAN SERVICES

Centers for Disease Control and Prevention

Statement of Organization, Functions, and Delegations of Authority

Part C (Centers for Disease Control and Prevention) of the Statement of Organization, Functions, and Delegations of Authority of the Department of Health and Human Services (45 FR 67772-76, dated October 14, 1980, and corrected at 45 FR 69296, October 20, 1980, as amended most recently at 70 FR 72842-72843, dated December 15, 2005) is amended to reorganize the Management Analysis and Services Office.

Section C-B, Organization and Functions, is hereby amended as follows:

After the title for the Management Analysis and Services Office (CAJG), delete the functional statement and insert the following:

Management Analysis and Services Office (CAJG). (1) Plans, coordinates, and provides CDC-wide management and information services in the following areas: Policy development, management and consultation; management studies and surveys, internal controls program, delegations of authorities, organizations and functions, Federal Advisory Committee management, records management, most efficient organization implementation, printing procurement, and management services, conference and meeting management, electronic forms design and management, mail center services and operations, information quality, competitive sourcing, and office automation services and support.

Office of the Director (CAJG1). Plans, directs, develops, implements, supports, and coordinates activities of the Management Analysis and Services Office (MASO). (1) Plans, develops, and implements strategic plans, goals and objectives, business services and evaluation, performance measurement plans, customer service management, and provides leadership, policy and procedural formulation and guidance in program planning and development; (2) prepares, reviews, and coordinates budgetary, informational, and programmatic resources; (3) plans, directs, and coordinates requirements of OMB Circular A-76 to conduct competitive sourcing activities, management review and FAIR Act activities and to determine whether certain agency functions might be more appropriately carried out through or by commercial sources; (4) provides electronic forms management services, including development, coordination of clearances, and inventory management; and (5) determines, collaborates, and manages appropriate information technology architecture and methodology for MASO's applications, databases, and systems.

Management Analysis and Policy Branch (CAJGB). (1) Provides management and oversight of CDC federal advisory committees that provide advice to the CDC Director and the Secretary of the Department of Health and Human Services (DHHS); (2) facilitate logistics and general committee support of scientific and programmatic peer review of research, applications and cooperative agreements for grant support and contracts; (3) provides consultation and assistance to CDC program officials on the establishment, modification, or abolishment of organizational structures and functions, reviews and analyzes organizational changes, and develops documents for approval by appropriate CDC or DHHS officials; (4) manages the internal controls program for CDC in consultation with the Financial Management Office (FMO) to include creating, maintaining and diffusing internal controls guidance, co-chairing and administering the CDC senior assessment team (and serving as the team's interface with executive management), serving as the CDC focal point for assessing risk, facilitating and overseeing CDC's scheduling, testing and review of internal controls, reporting on the control environment, and overseeing CDC compliance with OMB Circular A-123 and the management and internal controls guidance within the Federal Managers Financial Integrity Act, co-manages the process for developing and finalizing the components of the Annual Assurance Statement signed by the Director, CDC with FMO; (5) conducts management studies for CDC to improve the effectiveness and efficiency of management and administrative processes; (6) serves as the CDC office of record for delegations of authority by interpreting, analyzing, and making recommendations concerning delegations and re-delegations of program and administrative authorities, and developing appropriate delegating documents; (7) manages the CDC policy program, including the policy issuance system, policy development, dissemination, and policy advisory services, interprets DHHS and other Federal directives and assess their impact on CDC policy, maintains the official CDC library of administrative management policy and procedures manuals; (8) addresses policy gaps through periodic comprehensive administrative policy reviews and benchmarking; (9) manages the CDC records program, which includes providing technical assistance in developing new records schedules, transferring records, storing records, and administering electronic records, serves as the agency liaison to the National Archives and Records Administration; (10) provides advice and consultation in implementing most efficient organizations resulting from competitive sourcing decisions.

Management and Information Services Branch (CAJGC). (1) Plans and conducts a printing management program supporting all of CDC; (2) maintains liaison with contract suppliers, DHHS, the Government Printing Office and other agencies on matters pertaining to printing, copy preparation, reproduction, and procurement of printing; (3) plans, directs, coordinates, and implements CDC-wide information distribution services and mail and messenger services, including the establishment and maintenance of mailing lists and CDC announcements; (4) manages all functions of the auditoriums at the Roybal campus and specific meeting rooms at Roybal and other CDC campuses, provides conference management support and audio-visual expertise to Coordinating Centers and Coordinating Offices customers, and plans, develops, and implements policies and procedures in these areas, as appropriate; (5) serves as the focal point for recommending policies and establishing procedures for matters pertaining to the white office paper recycling; (6) manages the CDC-wide subject matter database that serves as an agency resource supporting call management services and hotlines within the CDC; (7) manages the food service facilities at the Roybal and Chamblee campuses as well as future planned food service facilities; (8) collaborates with stakeholders and partners, responsible for the planning, coordination and management of the conference center located in the Global Communications Center (GCC) on the Roybal campus, and manages the infrastructure support for functions within the GCC provided by contract; (9) manages the receipt and response to complaints by the public questioning the accuracy of any scientific information disseminated by CDC, implements established government guidelines contained in Public Law 106-554, section 515, for ensuring the quality of information disseminated to the public by government agencies.

Office Automation Service Activity (CAJGC2). (1) Plans, coordinates, and administers office automation (OA) services; (2) administers office automation services in accordance with the OA Performance Work Statement; (3) provides and performs clerical support, file management, meeting logistics, conference and workshop support, scientific and technical assistance; (4) maintains liaison with appropriate offices on matters pertaining to the oversight, performance, and contractual requirements of the Office Automation Service Activity.

Dated: January 20, 2006.
William H. Gimson,
Chief Operating Officer, Centers for Disease Control and Prevention (CDC).

[FR Doc. 06-1088 Filed 2-6-06; 8:45 am]

BILLING CODE 4160-18-M